INTERNATIONAL TRADE COMMISSION

[Investigation Nos. 731-TA-1580, 1582 and 1583 (Final)]

Steel Nails From India, Thailand, and Turkey; Supplemental Schedule for the Final Phase of Antidumping Duty Investigations

AGENCY: United States International Trade Commission.

ACTION: Notice.

DATES: December 23, 2022.

FOR FURTHER INFORMATION CONTACT: Lawrence Jones (202-205-3358), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective June 7, 2022, the Commission established a general schedule for the conduct of the final phase of its antidumping and countervailing duty investigations on steel nails from India, Oman, Sri Lanka, Thailand, and Turkey (87 FR 36882, June 21, 2022), following preliminary determinations by the U.S. Department of Commerce (“Commerce”) that that certain benefits which constitute subsidies within the meaning of § 703 of the Act (19 U.S.C. 1671b) are being provided to manufacturers, producers, or exporters in India, Oman, Sri Lanka, and Turkey of steel nails. Notice of the scheduling of the final phase of the Commission's investigations and of a public hearing held in connection therewith was given by posting copies of the notice in the Office of the Secretary, U.S. International Trade Commission, Washington, DC, and by publishing the notice in the Federal Register on June 21, 2022 (87 FR 36882). In light of the restrictions on access to the Commission building due to the COVID-19 pandemic, the Commission conducted its hearing through video conference on August 17, 2022. All persons who requested the opportunity were permitted to participate.

Commerce issued final affirmative countervailing duty determinations with respect to steel nails from India, Oman, Sri Lanka, and Turkey (87 FR 51333, 87 FR 51335, 87 FR 51337, and 87 FR 51339, August 22, 2022) and a final negative countervailing duty determination with respect to steel nails from Thailand (87 FR 51343, August 22, 2022). The Commission issued a notice of termination for the countervailing investigation of steel nails from Thailand (87 FR 55036, September 8, 2022). The Commission subsequently issued its final determinations that an industry in the United States was not materially injured or threatened with material injury by reason of imports of steel nails from India, Oman, and Turkey, provided for in subheadings 7317.00.55, 7317.00.65, and 7317.00.75 of the Harmonized Tariff Schedule of the United States, that have been found by the U.S. Department of Commerce (“Commerce”) to be subsidized by the governments of India, Oman, and Turkey. The Commission further found that imports of steel nails from Sri Lanka that Commerce has determined are subsidized by the government of Sri Lanka are negligible and terminated that investigation (87 FR 61631, October 12, 2022).

Commerce issued final affirmative antidumping duty determinations with respect to imports of steel nails from India, Thailand, and Turkey (87 FR 78937, 87 FR 78929, and 87 FR 78935, December 23, 2022). Commerce issued a final negative antidumping duty determination with respect to imports of steel nails from Sri Lanka (87 FR 78933, December 23, 2022). The Commission has issued a notice of termination for the antidumping duty investigation of steel nails from Sri Lanka (publication pending). Accordingly, the Commission currently is issuing a supplemental schedule for its antidumping duty investigations on imports of steel nails from India, Thailand, and Turkey.

This supplemental schedule is as follows: the deadline for filing supplemental party comments on Commerce's final antidumping duty determinations is January 10, 2023. Supplemental party comments may address only Commerce's final antidumping duty determinations regarding imports of steel nails from India, Thailand, and Turkey. These supplemental final comments may not contain new factual information and may not exceed five (5) pages in length. The supplemental staff report in the final phase of the current investigations will be placed in the nonpublic record on January 18, 2023, and a public version will be issued thereafter.

For further information concerning this proceeding see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Please note the Secretary's Office will accept only electronic filings during this time. Filings must be made through the Commission's Electronic Document Information System (EDIS, https://edis.usitc.gov.) No in-person paper-based filings or paper copies of any electronic filings will be accepted until further notice.

Authority: This proceeding is being conducted under authority of title VII of the Tariff Act of 1930; this notice is published pursuant to section 207.21 of the Commission's rules.

By order of the Commission.
Issued: January 5, 2023.
Katherine Hiner,
Acting Secretary to the Commission.

[FR Doc. 2023-00588 Filed 1-12-23; 8:45 am]

BILLING CODE 7020-02-P